DEPARTMENT OF JUSTICE

Antitrust Division

Notice Pursuant to the National Cooperative Research and Production Act of 1993—Nano-Imprint Lithography Infrastructure for Low Cost Replication at the 65NM Node and Beyond

Notice is hereby given that, on June 9, 2004, pursuant to Section 6(a) of the National Cooperative Research and Production Act of 1993, 15 U.S.C. 4301 et seq. (“the Act”), Nano-Imprint Lithography Infrastructure for Low Cost Replication at the 65nm Node and Beyond has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Molecular Imprints, Inc., Austin, TX; KLA-Tencor Corporation, San Jose, CA; Motorola, Inc., Tempe, AZ; Photronics, Inc., Brookfield, CT; and The University of Texas at Austin, Austin, TX. The nature and objectives of the venture are to design and demonstrate technology for step and flash imprint lithography (S-FIL), a novel method of transferring integrated circuit patterns to the surface of a semiconductor wafer by molding of three dimensional features potentially as small as 20 nanometers or less.

Dorothy B. Fountain,
Deputy Director of Operations, Antitrust Division.

[FR Doc. 04-15460 Filed 7-7-04; 8:45 am]

BILLING CODE 4410-11-M